DEPARTMENT OF HEALTH AND HUMAN SERVICES

Food and Drug Administration

Advisory Committee on Special Studies Relating to the Possible Long-Term Health Effects of Phenoxy Herbicides and Contaminants (Ranch Hand Advisory Committee); Notice of Meeting

AGENCY: Food and Drug Administration, HHS.

ACTION: Notice.

This notice announces a forthcoming meeting of a public advisory committee of the Food and Drug Administration (FDA). The meeting will be open to the public.

Name of Committee: Advisory Committee on Special Studies Relating to the Possible Long-Term Health Effects of Phenoxy Herbicides and Contaminants (Ranch Hand Advisory Committee).

General Function of the Committee: To advise the Secretary and the Assistant Secretary for Health concerning its oversight of the conduct of the Ranch Hand study by the U.S. Air Force and provide scientific oversight of the Department of Veterans Affairs (VA) Army Chemical Corps Vietnam Veterans Health Study, and other studies in which the Secretary or the Assistant Secretary for Health believes involvement by the committee is desirable.

Date and Time: The meeting will be held on January 22, 2001, 1 p.m. to 4:30 p.m., January 23, 2001, 8:30 a.m. to 4:30 p.m., and January 24, 2001, 8:30 to 12 noon.

Location: Parklawn Bldg., 5600 Fishers Lane, conference room K, Rockville, MD.

Contact Person: Barbara J. Jewell, Food and Drug Administration, 5600 Fishers Lane, rm. 16-53, Rockville, MD 20857, 301-827-6696, or FDA Advisory Committee Information Line, 1-800-741-8138 (301-443-0572 in the Washington, DC area), code 12560. Please call the Information Line for up-to-date information on this meeting.

Agenda: The committee will provide final comments and recommendations on the scope of work for the physical examinations and final report preparation for the sixth and final round of the Air Force Health Study.

Procedure: Interested persons may present data, information, or views, orally or in writing, on issues pending before the committee. Written submissions may be made to the contact person by January 10, 2001. Oral presentations from the public will be scheduled on January 22, 2001, between approximately 3 p.m. to 4 p.m. Time allotted for each presentation may be limited. Those desiring to make formal oral presentations should notify the contact person before January 10, 2001, and submit a brief statement of the general nature of the evidence or arguments they wish to present, the names and addresses of proposed participants, and an indication of the approximate time requested to make their presentation.

Notice of this meeting is given under the Federal Advisory Committee Act (5 U.S.C. app. 2).

Dated: December 15, 2000.
Linda A. Suydam,
Senior Associate Commissioner.

[FR Doc. 00-33022 Filed 12-26-00; 8:45 am]

BILLING CODE 4160-01-F